DEPARTMENT OF COMMERCE

National Oceanic and Atmospheric Administration

National Estuarine Research Reserve System

AGENCY: Stewardship Division, Office for Coastal Management, National Ocean Service, National Oceanic and Atmospheric Administration, U.S. Department of Commerce.

ACTION: Notice of Approval for the Mission-Aransas, Texas National Estuarine Research Reserve Management Plan revision.

SUMMARY: Under 15 CFR 921.33(d), notice is hereby given that the Stewardship Division, Office for Coastal Management, National Ocean Service, National Oceanic and Atmospheric Administration, U.S. Department of Commerce approves the Mission-Aransas, Texas National Estuarine Research Reserve Management Plan revision. The Mission-Aransas Reserve revised plan will replace the plan approved in 2006.

The revised management plan outlines the administrative structure; the research/monitoring, stewardship, education, and training programs of the reserve; and the plans for future land acquisition and facility development to support reserve operations.

The Mission-Aransas Reserve takes an integrated approach to management, linking research, education, coastal training, and stewardship functions. The Reserve has outlined how it will manage administration and its core program providing detailed actions that will enable it to accomplish specific goals and objectives. Since the last management plan, the Reserve has built out its core programs and monitoring infrastructure; constructed several facilities including a L.E.E.D. certified Estuarine Research Center that serves as the reserve headquarters and includes laboratories, offices, classrooms, interpretative areas and dormitories; and built new partnerships with organizations along the Coastal Bend of Texas.

On October 1, 2015, NOAA issued a notice of a thirty day public comment period for the Mission-Aransas Reserve revised plan (80 FR 59138). Responses to the written and oral comments received, and an explanation of how comments were incorporated into the final revised plan, are available in Appendix K to the revised plan (http://missionaransas.org/sites/default/files/manerr/files/final_2015-2020_manerr_management_plan_appendices_dec_2015.pdf).

With the approval of this management plan, the Mission-Aransas Reserve will increase their total acreage from 185,708 acres to 186,189. The change is attributable to the recent acquisitions of several parcels by Reserve partners, totaling 481 acres. All of the proposed additions are owned by existing Reserve partners and will be managed for long-term protection and conservation value. These parcels have high ecological value and will enhance the Reserve's ability to provide increased opportunities for research, education, and stewardship. The revised management plan will serve as the guiding document for the expanded 186,189 acre Mission-Aransas Reserve for the next five years. The 2015-2020 Mission-Aransas, Texas Reserve Management Plan, which contains a more detailed description of the boundary change and acquired parcels, is available at (https://sites.cns.utexas.edu/manerr/about/management-plan).

The impacts of the revised management plan have not changed and the initial Environmental Impact Statement (EIS) prepared at the time of designation is still valid. NOAA has made the determination that the revision of the management plan will not have a significant effect on the human environment and therefore qualifies for a categorical exclusion under NOAA Administrative Order 216-6. An environmental assessment will not be prepared.

FOR FURTHER INFORMATION CONTACT: Matt Chasse at (301) 563-1198 or Erica Seiden at (301) 563-1172 of NOAA's National Ocean Service, Stewardship Division, Office for Coastal Management, 1305 East-West Highway, N/ORM5, 10th floor, Silver Spring, MD 20910.

Dated: October 22, 2015.
John King,
Deputy Director, Office for Coastal Management, National Ocean Service, National Oceanic and Atmospheric Administration.

[FR Doc. 2015-32942 Filed 12-30-15; 8:45 am]

BILLING CODE 3510-08-P